DEPARTMENT OF COMMERCE

International Trade Administration

Initiation of Antidumping and Countervailing Duty Administrative Reviews and Request for Revocation in Part

AGENCY: Import Administration, International Trade Administration, Department of Commerce.

ACTION: Notice of initiation of antidumping and Countervailing duty administrative reviews and request for revocation in part.

SUMMARY: The Department of Commerce has received requests to conduct administrative reviews of various antidumping and countervailing duty orders and findings with June anniversary dates. In accordance with the Department's regulations, we are initiating those administrative reviews. The Department also received a request to revoke one antidumping duty order in part.

DATES: July 28, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with June anniversary dates. The Department also received timely requests to revoke in part the antidumping duty order on Tapered Roller Bearings and Parts Thereof, Finished and Unfinished, from the People's Republic of China.

Initiation of Reviews

In accordance with section 19 CFR 351.221(c)(1)(i), we are initiating administrative reviews of the following antidumping and countervailing duty orders and findings. We intend to issue the final results of these reviews not later than June 30, 2005.

| Period to be reviewed
Antidumping Duty Proceedings
Canada: Certain Softwood Lumber ¹ A-122-838 | 05/01/03-04/30/04
605666 BC Ltd.,
Ardew Wood Products, Ltd.
Atco Lumber,
B & L Forest Products Ltd.,
BC Veneer Products, Ltd.
Bowater Canadian Forest Products Inc.
BW Creative Wood
Canyon Lumber Company Ltd.
CDS Lumber Products
Deep Cove Lumber
Edge Grain Forest Products
Errington Cedar Products
EW Marketing
Forex Log & Lumber
Galloway Lumber Co. Ltd.
Industrial Wood Specialties
J & G Logworks
Marine Way
North Mitchell Lumber Co. Ltd., Saran Cedar
Pacific Wood Specialties
Pan West Wood Products Ltd.
Silvermere Forest Products Inc.
Stag Timber
Stuart Lake Marketing Inc.
Suncoast Lumber & Milling
Sundance Forest Industries
T.F. Specialty Sawmill
Teal Cedar Products Ltd.
Timber Ridge Forest Products
Tolko Marketing & Sales
Uneeda Wood Products
Visscher Lumber Inc.
Japan: Certain Large Diameter Carbon and Alloy Seamless Standard, Line, and Pressure Pipe, A-588-850 | 06/01/03-05/31/04
JFE Steel Corporation
Nippon Steel Corporation
NKK Tubes
Sumitomo Metal Industries, Ltd.
Taiwan: Certain Stainless Steel Butt-Weld Pipe Fittings, A-583-816 | 06/01/03-05/31/04
Liang Feng Stainless Steel Fitting Co., Ltd.
PFP Taiwan Co., Ltd.
Ta Chen Stainless Steel Pipe Co., Ltd.
Tru-Flow Industrial Co., Ltd.
The People's Republic of China: Folding Metal Tables and Chairs ² A-570-868 | 06/03/03-05/31/04
Feili Furniture Development Limited Quanzhou City
Feili Furniture Development Co., Ltd.
Feili Group (Fujian) Co., Ltd.
Feili (Fujian) Co., Ltd.
Dongguan Shichang Metals Factory, Ltd.
DongGuan ShicChang Metals Factory Ltd.
Lifetime Hong Kong Ltd.
Lifetime (Xiamen) Plastic Products Ltd.
Maxchief Investments Ltd.
New-Tec Integration Co., Ltd.
Wok and Pan Industry, Inc.
The People's Republic of China: Tapered RollerBearings ³ A-570-601 | 06/01/03-05/31/04
China National Machinery Import & Export Corp.
Chin Jun Industrial Ltd.
Louyang Bearing Corp. (Group)
Peer Bearing Company-Changshan
Shanghai United Bearing Co., Ltd.
Weihai Machinery Holding (Group) Company Ltd.
Yantai Timken Company Limited
Zhejiang Changshan Bearing (Group) Co., Ltd.
Zhejiang Changshan Change Bearing Co.
Zhejiang Machinery Import & Export Corp.
Countervailing Duty Proceedings
None
Suspension Agreements
None
¹ Companies listed inadvertently from previous initiation notice.
² If one of the above named companies does not qualify for a separate rate, all other exporters of folding metal tables and chairs from the People's Republic of China who have not qualified for a separate rate are deemed to be covered by this review as part of the single PRC entity of which the named exporter is a part.
³ If one of the above named companies does not qualify for a separate rate, all other exporters of tapered roller bearings from the People's Republic of China who have not qualified for a separate rate are deemed to be covered by this review as part of the single PRC entity of which the named exporter is a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistant with FAG Italia v. United States, 291 F.3d 806 (Fed. Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: July 22, 2004.
Holly A. Kuga,
Senior Office Director, Office 4 for Import Administration.

[FR Doc. 04-17203 Filed 7-27-04; 8:45 am]

BILLING CODE 3510-DS-P